FEDERAL COMMUNICATIONS COMMISSION

[WT Docket No. 07-250; DA 08-1331]

Consumer and Governmental Affairs Bureau Reminds Digital Wireless Handset Manufacturers and Public Mobile Service Providers of Obligation To Designate an Agent for Hearing Aid Compatibility Issues

AGENCY: Federal Communications Commission.

ACTION: Notice.

SUMMARY: In this document, the Consumer and Governmental Affairs Bureau (Bureau) reminds public mobile service providers and digital wireless handset manufacturers of their obligation to designate an agent for service of informal complaints received by the Commission, as well as notices, inquiries, and orders, relating to hearing aid compatibility.

DATES: The requirement to designate a service and contact agent became effective June 6, 2008.

ADDRESSES: Federal Communications Commission, 445 12th Street, SW., Washington, DC 20554.

FOR FURTHER INFORMATION CONTACT: Arlene Alexander, Consumer and Governmental Affairs Bureau, Disability Rights Office at (202) 418-0581 (voice), (202) 418-0183 (TTY), or e-mail Arlene.Alexander@fcc.gov.

SUPPLEMENTARY INFORMATION: This is a summary of the Bureau's document DA 08-1331, released June 5, 2008. A copy of document DA 08-1331 will be available for public inspection and copying during regular business hours at the FCC Reference Information Center, Portals II, 445 12th Street, SW., Room CY-A257, Washington, DC 20554. Document DA 08-1331 also may be purchased from the Commission's duplicating contractor at Portals II, 445 12th Street, SW., Room CY-B402, Washington, DC 20554. Customers may contact the Commission's duplicating contractor at its Web site http://www.bcpiweb.com or by calling 1-800-378-3160.

To request materials in accessible formats for people with disabilities (Braille, large print, electronic files, audio format), send an e-mail to fcc504@fcc.gov or call the Bureau at (202) 418-0530 (voice) or (202) 418-0432 (TTY). Document DA 08-1331 also can be downloaded in Word and Portable Document Format (PDF) at http://www.fcc.gov/cgb/dro/hearing.html.

The designation required by Amendment of the Commission's Rules Governing Hearing Aid-Compatible Mobile Handsets, Petition of American National Standards Institute Accredited Standards Committee C63 (EMC) ANSI ASC C63®, WT Docket No. 07-250, First Report and Order, FCC 08-68, published at 73 FR 25566, May 7, 2008 (2008 Hearing Aid Compatibility First Report and Order), may be sent to the Commission via e-mail to SECTION255_POC@fcc.gov, or by mail to the Commission, Attention: Arlene Alexander, Room 3-C408 (see ADDRESSES section of this document for mailing address). Designated service agent information may be viewed through the Bureau's Disability Rights Office Web site at http://www.fcc.gov/cgb/dro/section255.html.

Synopsis

On February 28, 2008, the Commission released the 2008 Hearing Aid Compatibility First Report and Order, which modified the Commission's hearing aid compatibility requirements applicable to providers of public mobile services and manufacturers of digital wireless handsets used in the delivery of those services. These modifications include requiring manufacturers and service providers to provide hearing aid compatibility contact information directly to the Commission for posting on the Commission's Web site. Specifically, the Commission amended 47 CFR 68.418 to require that manufacturers and service providers designate and identify one or more agents upon whom service may be made of all informal complaints, as well as notices, inquiries, orders, decisions, and other pronouncements of the Commission in any matter before the Commission. The regulations further provide that “[s]uch designation shall be provided to the Commission and shall include a name or department designation, business address, telephone number, and, if available, TTY number, facsimile number, and Internet e-mail address.” Finally, the regulations require the Commission to make this information available to the public.

Apart from requiring the provision of contact information directly to the Commission, the new regulations do not otherwise change the procedures for handling complaints alleging a violation of the Commission's hearing aid compatibility rules.

Federal Communications Commission
Nicole McGinnis,
Deputy Chief, Consumer and Governmental Affairs Bureau.

[FR Doc. E8-17696 Filed 7-31-08; 8:45 am]

BILLING CODE 6712-01-P